DEPARTMENT OF LABOR

Employment and Training Administration

[TA-W-61,927]

C-Tech Industries, A Subsidiary of Alfred Karcher GMBH and Co. KG Calumet, MI; Notice of Negative Determination Regarding Application for Reconsideration

By application dated September 5, 2007, a worker requested administrative reconsideration of the Department's negative determination regarding eligibility for workers and former workers of C-Tech Industries, A Subsidiary of Alfred Karcher GMBH & Co. KG, Calumet, Michigan (subject firm) to apply for Trade Adjustment Assistance (TAA) and Alternative Trade Adjustment Assistance (ATAA). The negative determination applicable to workers of the subject firm was issued on August 14, 2007. The Department's Notice of determination was published in the Federal Register on August 30, 2007 (72 FR 50126). Workers at the subject firm produce automatic parts cleaners (parts washers).

The petition, dated August 1, 2007, stated that the subject firm shifted production to a foreign country and that the subject firm will close in November 2007. The petition attachments stated that production of pressure washers at the C-Tech Industries, Camas, Washington plant shifted to an affiliated facility in Monterrey, Mexico, and that “C-Tech industries in Camas, Washington takes over all production of parts washers.”

The investigation revealed that neither sales nor production of parts cleaners/washers at the subject firm decreased during the relevant period. Rather, sales and production levels at the subject firm increased in 2006 from 2005 levels, and increased during January through July 2007 from January through July 2006 levels. The investigation also revealed that the subject firm did not shift production of parts cleaners/washers abroad. Rather, the shift of production was to an affiliated, domestic facility. Therefore, the Department determined that neither Section 222(a)(2)(A) nor Section 222(a)(2)(B) was satisfied.

The petitioner contends that “no automatic parts washers were manufactured in Mexico, but pressure washers are being manufactured in Mexico” and that it does not matter that “the manufacture of our specific product did not go to Mexico, because our company produces a family of products. Transfer of one product in the family, affects the other products in the family.”

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

In the request for reconsideration, the petitioner did not provide any new facts or allege any mistake of facts. Rather, the petitioner alleges that the Department has misinterpreted the law—that the shift of production of pressure washers from C-Tech Industries, Camas, Washington, to Mexico is a basis for a certification of eligibility for workers and former workers of C-Tech Industries, A Subsidiary of Alfred Karcher GMBH & Co. KG, Calumet, Michigan to apply for TAA and ATAA.

The statute requires that the shift of production abroad must be of an article that is like or directly competitive with those produced at the subject firm. Because pressure washers and automatic parts washers are not similar to each other and are not directly competitive with each other, the Department determines that the shift of pressure washers to Mexico cannot be the basis for certification of a worker group that produces parts washers.

Conclusion

After review of the application and investigative findings, I conclude that there has been no error or misinterpretation of the law or of the facts which would justify reconsideration of the Department of Labor's prior decision. Accordingly, the application is denied.

Signed at Washington, DC, this 24th day of September 2007.
Elliott S. Kushner,
Certifying Officer, Division of Trade Adjustment Assistance.

[FR Doc. E7-19181 Filed 9-27-07; 8:45 am]

BILLING CODE 4510-FN-P